DEPARTMENT OF LABOR

Employment and Training Administration

[TA-W-71,331]

Eos Airlines, Inc., Purchase, NY; Notice of Termination of Investigation

Pursuant to Section 223 of the Trade Act of 1974, as amended, an investigation was initiated on June 22, 2009 in response to a worker petition filed on behalf of workers of Eos Airlines, Incorporated, Purchase, New York.

The Department issued a negative determination (TA-W-65,739) applicable to the petitioning group of workers on April 14, 2009 and a negative determination regarding an application for reconsideration on June 22, 2009.

The current petition regarding the investigation has been deemed invalid. All petitioners were separated more than one year prior to the date of petition. Consequently, the investigation has been terminated.

Signed at Washington, DC, this 25th day of June 2009.
Richard Church,
Certifying Officer, Division of Trade Adjustment Assistance.

[FR Doc. E9-15769 Filed 7-2-09; 8:45 am]

BILLING CODE 4510-FN-P